DEPARTMENT OF AGRICULTURE

Forest Service

Information Collection; Grazing Permit Administration Forms

AGENCY: Forest Service, USDA.

ACTION: Notice; request for comment.

SUMMARY: In accordance with the Paperwork Reduction Act of 1995, the Forest Service is seeking comments from all interested individuals and organizations on the extension with no revision of a currently approved information collection, Grazing Permit Administration Forms.

DATES: Comments must be received in writing on or before February 21, 2012 to be assured of consideration. Comments received after that date will be considered to the extent practicable.

ADDRESSES: Comments concerning this notice should be addressed to: USDA, Forest Service, Attn: Director, Rangeland Management, Mail Stop 1103, 1400 Independence Ave., SW., Washington, DC 20250-1153.

Comments also may be submitted via facsimile to (202) 205-1096 or by email to: ajoseph@fs.fed.us.

The public may inspect comments received at USDA, Forest Service, Rangeland Management staff, Room 3SO, 201 14th St., SW., Washington, DC, 20050, during normal business hours. Visitors are encouraged to call ahead to (202) 205-1460 to facilitate entry into the building.

FOR FURTHER INFORMATION CONTACT: Annette Joseph, Rangeland Management at (202) 205-1454. Individuals who use telecommunication devices for the deaf (TDD) may call the Federal Information Relay Service (FIRS) at 1 (800) 877-8339, between 8 a.m. and 8 p.m., Eastern Standard Time, Monday through Friday.

SUPPLEMENTARY INFORMATION: Title: Grazing Permit Administration Forms.

OMB Number: 0596-0003.

Expiration Date of Approval: July 31, 2012.

Type of Request: Extension without Revision.

Abstract:

This information collection is necessary to allow proper administration of livestock grazing programs on National Forest System (NFS) lands. Domestic livestock grazing occurs on approximately 90 million acres of NFS lands. Grazing on NFS lands is subject to authorization and administrative oversight by the Forest Service. The information collected by the Forest Service is the minimum required for issuance and administration of grazing permits, including fee collections, as authorized by the Federal Land Policy and Management Act (FLPMA) of 1976, as amended (43 U.S.C. 1700 et seq.) and United States Department of Agriculture regulations at 36 CFR part 222, subparts A and C. Similar information is not available from any other source.

Forest Service officials use the following forms to collect the information necessary to administer this program. These forms are:

FS-2200-1, Refund, Credit or Transfer Application, collects the following information:

• Name and mailing address

• Permit number

• National Forest or Grassland and Ranger District

• Purpose of application: Credit on next year's fees, refund of fees, or transfer of credit to another account

• Information on the allotment; number of cattle, horses, or sheep;

• Period range not used

• Reason for less use than permitted

• Signature of Permittee

Information collected on this form enables the Forest Service to evaluate a grazing permittee's request for refund, credit, or transfer of the unused portion of the preceding season's grazing fees paid to the Forest Service for the occupancy of the National Forest System lands by permitted livestock.

FS-2200-2, Application for Temporary Grazing or Livestock Use Permit, collects the following information:

• Name and address of applicant

• Type, amount, and location of requested grazing

• Period of use

• Grazing allotment

Information collected on this form enables the Forest Service to determine whether individuals qualify for a temporary grazing or livestock use permit, which authorizes grazing on certain NFS lands for a period not to exceed 1 year. The Forest Service uses the information on this form to determine whether the applicant is likely to comply with grazing permit terms and conditions.

FS-2200-12, Waiver of Term Grazing Permit, enables the Forest Service to terminate an individual's grazing privileges on certain NFS lands based upon that individual's sale or transfer of base property, permitted livestock, or both to another individual who desires to acquire a new grazing permit. The waiver enables the Forest Service to cancel the grazing permit held by the individual who sold or transferred the base property, permitted livestock, or both; and to identify the individual who acquired the base property, permitted livestock, or both as the preferred applicant for a new grazing permit.

FS-2200-13, Escrow Waiver of Term Grazing Permit Privileges, collects information on loans made to permittees. The Forest Service uses the information to record the name and address of a permittee's lender, the amount of the loan, and the due date for repayment. The information assists the Agency officials in determining whether to hold in escrow, on behalf of the lender, all of the privileges associated with the grazing permit except the privilege to graze. The Forest Service uses the collected information to (1) Notify the lender of important issues associated with the administration of the grazing permit and (2) facilitate the transfer of a grazing permit to a lender if the permittee defaults on a loan.

FS-2200-16, Application for Term Grazing Permit, collects the following information:

• Name and address of applicant

• Type, amount, and location of requested grazing

• Period of use

• Grazing allotment

The information collected on this form enables the Forest Service to evaluate an applicant's eligibility and qualification to hold a term grazing permit authorizing the use of National Forest System lands for livestock grazing purposes, to determine the applicant's ability to comply with grazing permit terms and conditions, and to notify the applicant in writing of matters associated with the administration of permitted grazing including, but not limited to, bills for the fees associated with the permitted grazing.

FS-2200-17, Application for Term Private Land Grazing Permit, collects the following:

• Name and address of applicant

• Type, amount, and location of requested grazing

• Period of use

• Grazing allotment

The information collected on this form enables the Forest Service to evaluate an applicant's eligibility and qualification to hold a term private land-grazing permit, which authorizes the use of National Forest System lands and private lands controlled by the applicant for livestock grazing purposes. The information also enables the Forest Service to determine the applicant's ability to comply with grazing permit terms and conditions, and to notify the applicant in writing of matters associated with the administration of permitted grazing.

FS-2200-25, Ownership Statement by Corporation or Partnership, collects the following:

• Name of corporation or partnership

• The title, signing authority, mailing address, shares owned or ownership of each stockholder or partner

The information on this form enables the Forest Service to evaluate whether a corporation or partnership is eligible and qualified to hold a term grazing permit authorizing grazing on certain National Forest System lands, whether the corporation is authorized to conduct business in the state in which the National Forest System lands to be grazed are located, and which shareholders or partners are authorized to sign official documents on behalf of the corporation or partnership.

Estimate of Annual Burden: 25 minutes.

Type of Respondents: Individuals, Businesses, and Farms.

Estimated Annual Number of Respondents: 3900.

Estimated Annual Number of Responses per Respondent: 1.

Estimated Total Annual Burden on Respondents: 1950 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: December 8, 2011.
Faye L. Krueger,
Associate Deputy Chief, NFS.

[FR Doc. 2011-32965 Filed 12-22-11; 8:45 a.m.]

BILLING CODE 3410-11-P